DEPARTMENT OF THE INTERIOR

Fish and Wildlife Service

50 CFR Part 17

RIN 1018-AF97

Endangered and Threatened Wildlife and Plants; Reopening of Comment Period and Notice of Availability of Draft Economic Analysis on Proposed Critical Habitat Determination for the San Diego Fairy Shrimp

AGENCY: Fish and Wildlife Service, Interior.

ACTION: Proposed rule; reopening of comment period and notice of availability of draft economic analysis.

SUMMARY: The U.S. Fish and Wildlife Service announces the availability of a draft economic analysis for the proposed designation of critical habitat for the San Diego fairy shrimp (Branchinecta sandiegonensis). We also provide notice of the reopening of the comment period for the proposal to allow all interested parties to submit written comments on the proposal and on the draft economic analysis. Comments previously submitted need not be resubmitted as they will be incorporated into the public records as a part of this reopening and will be fully considered in the final rule.

DATES: The original comment period on the critical habitat proposal closed on May 8, 2000. The comment period is again reopened and we will accept comments until September 11, 2000. Comments must be received by the closing date. Any comments that are received after the closing date may not be considered in the final decision on this proposal.

ADDRESSES: Copies of the draft economic analysis are available on the Internet at “http://pacific.fws.gov/crithab/sdfs” or by writing to the Field Supervisor, U.S. Fish and Wildlife Service, Carlsbad Fish and Wildlife Office, 2730 Loker Avenue West, Carlsbad, California, 92008. Written comments should be sent to the Field Supervisor. You may also send comments by electronic mail (e-mail) to fwlsdfs@fws.gov. Please submit comments in ASCII file format and avoid the use of special characters and encryption. Please include “Attn: RIN 1018-AF97” and your name and return address in your e-mail message. Comments and materials received will be available for public inspection, by appointment, during normal business hours at the above Service address.

FOR FURTHER INFORMATION CONTACT: The Carlsbad Fish and Wildlife Office, at the above address (telephone 760-431-9440; facsimile 760-431-9440).

SUPPLEMENTARY INFORMATION:

Background

The San Diego fairy shrimp is a small aquatic crustacean restricted to vernal pools (pools that have water in them for only a portion of a given year) in coastal southern California and south to northwestern Baja California, Mexico. It is found in small shallow vernal pools and ephemeral (lasting a short time) basins that range in depth from approximately 5 to 30 centimeters (2 to 12) inches (Simovich and Fugate 1992; Hathaway and Simovich 1996). Mature individuals lack a carapace (hard outer covering of the head and thorax) and have a delicate elongate body, large stalked compound eyes, and 11 pairs of swimming legs. They swim or glide upside down by means of complex wave-like beating movements of the legs and pass from front to back. Adult male San Diego fairy shrimp range in size from 9 to 16 millimeters (mm) (0.35 to 0.63 inches (in.)), adult females are 3 to 14 mm (0.31 to 0.55 in.) long. Vernal pools are found in various areas in California. They are found in regions with Mediterranean climates, where shallow depressions fill with water during fall and winter rains and then evaporate in the spring (Collie and Lathrop 1976; Holland and Jain 1997, 1998; Thorne 1984; Zedler 1987; Simovich; and Hathaway 1997). Urban and water development, flood control, highway and utility projects, as well as conversion of wildlands to agricultural use, have eliminated vernal pools and/or their watersheds in southern California (Jones and Stokes Associates 1987). Also threatening the San Diego fairy shrimp are changes in the hydrologic pattern, overgrazing, and off-road vehicle use.

On March 8, 2000, the Fish and Wildlife Service published a rule proposing critical habitat for the San Diego fairy shrimp Branchinecta sandiegonensis in the Federal Register (65 FR 12181), a species Federally listed as endangered throughout its range. We proposed the designation of approximately 36,000 acres of critical habitat for the San Diego fairy shrimp pursuant to the Endangered Species Act of 1973, as amended (Act). Proposed critical habitat is in Orange and San Diego counties, California, as described in the proposed rule.

Section 4(b)(2) of the Act requires that the Secretary shall designate or revise critical habitat based upon the best scientific data available and after taking into consideration the economic impact of specifying any particular area as critical habitat. Based upon the previously published proposal to designate critical habitat for the San Diego fairy shrimp and comments received during previous comment periods, we have conducted a draft economic analysis of the proposed critical habitat designation. The draft economic analysis is available at the above Internet and mailing address (see ADDRESSES). In order to accept the best and most current scientific data regarding the critical habitat proposal and the draft economic analysis of the proposal, we reopen the comment period at this time. Previously submitted oral or written comments on this critical habitat proposal need not be resubmitted. The current comment period on this proposal closes on September 15, 2000. Written comments may be submitted tot he Service office in the ADDRESSES section.

Author

The primary author of this notice is the Carisbad Fish and Wildlife Office (see ADDRESSES section).

Authority

The authority for this action is the Endangered Species Act of 1973 (16 U.S.C. 1531 et seq.).

Dated: August 16, 2000.
Don Weathers,
Regional Director, Region 1, Portland, Oregon.

[FR Doc. 00-21308 Filed 8-18-00; 8:45 am]

BILLING CODE 4310-55-P